DEPARTMENT OF EDUCATION

Office of Innovation and Improvement (OII) Overview Information; Advanced Placement Incentive (API) Program; Notice Inviting Applications for New Awards for Fiscal Year (FY) 2005

Catalog of Federal Domestic Assistance (CFDA) Number: 84.330C.

Dates: Applications Available: November 9, 2004.

Deadline for Notice of Intent to Apply: December 15, 2004.

Deadline for Transmittal of Applications: January 5, 2005.

Deadline for Intergovernmental Review: March 7, 2005.

Eligible Applicants:

(a) State educational agencies (SEAs);

(b) Local educational agencies (LEAs), including charter schools that are considered LEAs under State law; or

(c) National nonprofit educational entities with expertise in advanced placement services.

Note: In the case of an eligible entity that is an SEA, the SEA may use API grant funds to award subgrants to LEAs to enable those LEAs to carry out authorized activities that support the absolute priority for this competition.

Estimated Available Funds: The Administration has requested $51,534,000 for the Advanced Placement programs for FY 2005. The actual level of funding depends on final congressional action. The Department is inviting applications for this competition now so that it may be prepared to make awards following final congressional action on the Department's appropriation bill. Based on the Administration's request, we estimate that $25 million will be available for new awards under this competition.

Note: In accordance with statutory requirements, this estimate is based on the amount of funds the Secretary estimates will be available after the Department has awarded grants under the Advanced Placement Test Fee program, which is being announced separately under CFDA number 84.330B.

Estimated Range of Awards: $500,000—$1,000,000.

Estimated Average Size of Awards: $750,000.

Estimated Number of Awards: 32.

Note: The Department is not bound by any estimates in this notice.

Project Period: Up to 36 months.

Full Text of Announcement

I. Funding Opportunity Description

Purpose of Program: The API program, funded under section 1705 of Title I, Part G of the Elementary and Secondary Education Act of 1965 (ESEA), as amended by the No Child Left Behind Act of 2001 (NCLB), awards competitive grants designed to increase the successful participation of low-income students in pre-advanced placement and advanced placement courses and tests. By supporting increased access to and participation in pre-advanced placement and advanced placement courses and tests, the program provides greater opportunities for low-income students to achieve to high standards in English, mathematics, science, and other core subjects.

Priorities: This competition includes one absolute priority and four competitive preference priorities. In accordance with 34 CFR 75.105(b)(2)(iv) and (b)(2)(v), these priorities are from the priorities and allowable activities specified in section 1705(c) and (d) of the ESEA, as amended by the NCLB (20 U.S.C. 6535-6537).

Absolute Priority: For FY 2005 this priority is an absolute priority. Under 34 CFR 75.105(c)(3) we consider only applications that meet this priority.

This priority is: Implementation of Pre-Advanced Placement and Advanced Placement Programs in High-Poverty Schools. The Secretary establishes an absolute priority for applications that:

(1) Demonstrate an intent to carry out activities that target schools, or LEAs operating schools, with a high concentration of low-income students (and, if the applicant is an LEA, propose to serve schools with a high concentration of low-income students); and

(2) Propose to develop, enhance, or expand pre-advanced placement courses, in conjunction with advanced placement courses, in English, mathematics, science, and other core academic areas at the middle or high school level. Effective pre-advanced placement programs should increase the level of participation of low-income students who enroll and succeed in advanced placement courses and tests in core academic areas. Proposals may include vertical teams training, high-quality professional development for pre-advanced placement and advanced placement teachers, and coordination of curriculum design and development between middle and high school teachers.

Notes: (1) Pre-advanced placement courses are intended to provide middle and high school students with the critical thinking skills, content knowledge, and study habits necessary for successful participation in advanced placement courses. Applicants should explain why the courses supported by the proposed project qualify as pre-advanced placement or advanced placement.

(2) For the definitions of low-income individual (including a list of other types of data that may be used to verify low-income status) and high concentration of low-income students, see the definitions in Section III. 3. Other of this notice.

Allowable Activities: Activities supported under this priority must be designed to expand access for low-income individuals to pre-advanced placement and advanced placement programs and must involve one or more of the following:

• Teacher training;

• Pre-advanced placement course development;

• Coordination and articulation between grade levels to prepare students to enter and succeed in advanced placement courses;

• Books and supplies;

• Activities to increase the availability of, and participation in, on-line advanced placement courses; or

• Any other activity directly related to expanding access to and participation in pre-advanced placement and advanced placement programs, particularly for low-income individuals.

Competitive Preference Priorities: For FY 2005 these priorities are competitive preference priorities. Under 34 CFR 75.105(c)(i), we award up to an additional sixteen (16) points to an application, depending on the extent to which the application meets one or more of these priorities.

These priorities are: Competitive Preference Priority 1: Up to ten (10) points for demonstrating a pervasive need for the development of pre-advanced placement or advanced placement courses for middle or high schools where there are few or no advanced placement courses currently available.

Competitive Preference Priority 2: Up to two (2) points for demonstrating involvement of business and community organizations in the activities assisted.

Competitive Preference Priority 3: Up to two (2) points for demonstrating the availability of matching funds from State, local, or other sources to pay for a portion of the cost of activities to be assisted.

Competitive Preference Priority 4: Up to two (2) points for demonstrating the intent to carry out activities to increase the availability of, and participation in, on-line advanced placement courses.

Note: These priority points are in addition to any points the applicant earns under the Selection Criteria described elsewhere in this notice (see V. Application Review Information). The Selection Criteria will not be used to evaluate these competitive preference priorities.

Program Authority: 20 U.S.C. 6535-6537.

Applicable Regulations: The Education Department General Administrative Regulations (EDGAR) in 34 CFR parts 74, 75, 77, 79, 80, 81, 82, 84, 85, 86, 97, 98, and 99.

Note: The regulations in 34 CFR part 86 apply to institutions of higher education only.

II. Award Information

Type of Award: Discretionary grants.

Estimated Available Funds: The Administration has requested $51,534,000 for this program for FY 2005. The actual level of funding depends on final congressional action. The Department is inviting applications for this competition now so that it may be prepared to make awards following final congressional action on the Department's appropriation bill. Based on the Administration's request, we estimate that $25 million will be available for new awards under this competition.

Note: In accordance with statutory requirements, this estimate is based on the amount of funds the Secretary estimates will be available after the Department has awarded grants under the Advanced Placement Test Fee program, which is being announced separately under CFDA number 84.330B.

Estimated Range of Awards: $500,000-$1,000,000.

Estimated Average Size of Awards: $750,000.

Estimated Number of Awards: 32.

Note: The Department is not bound by any estimates in this notice.

Project Period: Up to 36 months.

III. Eligibility Information

1. Eligible Applicants:

(a) SEAs;

(b) LEAs, including charter schools that are considered LEAs under State law; or

(c) National nonprofit educational entities with expertise in advanced placement services.

Note: In the case of an eligible entity that is an SEA, the SEA may use API grant funds to award subgrants to LEAs to enable those LEAs to carry out authorized activities that support the absolute priority for this competition.

2. Cost Sharing or Matching: This competition does not involve cost sharing or matching but does involve supplement-not-supplant funding provisions.

Supplement not Supplant: Funds provided under this program must be used only to supplement and not supplant other non-Federal funds that are available to assist low-income individuals in paying advanced placement test fees (20 U.S.C. 6536).

3. Other: Definitions. The following definitions are taken from the API Program authorizing statute, in Title I, Part G of the ESEA (20 U.S.C. 6537). They are repeated in this application notice for the convenience of the applicant.

(a) The term advanced placement test means an advanced placement test administered by the College Board or approved by the Secretary.

Note: The Department has approved advanced placement tests administered by the International Baccalaureate Organization. As part of the grant application process, applicants may request approval of tests from other educational entities that provide comparable programs of rigorous academic courses and testing through which students may earn college credit.

(b) The term high concentration of low-income students, used with respect to a school, means a school that serves a student population 40 percent or more of whom are low-income individuals.

(c) The term low-income individual means an individual who is determined by an SEA or LEA to be a child, ages 5 through 19, from a low-income family on the basis of data used by the Secretary to determine allocations under section 1124 of the ESEA, data on children eligible for free or reduced-price lunches under the National School Lunch Act, data on children in families receiving assistance under Part A of Title IV of the Social Security Act, or data on children eligible to receive medical assistance under the Medicaid program under Title XIX of the Social Security Act, or through an alternate method that combines or extrapolates from those data.

IV. Application and Submission Information

1. Address to Request Application Package: You may obtain an application package via Internet or from the ED Publication Center (ED Pubs). To obtain a copy via Internet use the following address: http://www.ed.gov/fund/grant/apply/grantapps/index.

To obtain a copy from ED Pubs, write or call the following: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA number 84.330C.

Individuals with disabilities may obtain a copy of the application package in an alternative format (e.g., Braille, large print, audiotape, or computer diskette) by contacting the program contact person listed elsewhere in this notice under FOR FURTHER INFORMATION CONTACT (see VII. Agency Contact).

2. Content and Form of Application Submission: Requirements concerning the content of an application, together with the forms you must submit, are in the application package for this program.

Notice of Intent to Apply: Applicants that plan to apply for funding under this program notice are encouraged to indicate an intent to apply via e-mail notification sent to the API program manager, Madeline Baggett, at madeline.baggett@ed.gov no later than December 15, 2004. Applicants that fail to supply this e-mail notification may still apply for funding under this notice.

Page Limit for Program Narrative: The program narrative is where you, the applicant, address the selection criteria (i.e., within the context of the absolute priority) as well as the competitive preference priorities that reviewers use to evaluate your application. You must limit the program narrative to the equivalent of no more than 75 pages, using the following standards:

• A “page” is 8.5″ x 11″, on one side only, with 1″ margins at the top, bottom, and both sides.

• Double space (no more than three lines per vertical inch) all text in the program narrative, including titles, headings, footnotes, quotations, references, and captions, as well as all text in charts, tables, figures, and graphs.

• Use a font that is either 12-point or larger or no smaller than 10 pitch (characters per inch).

The page limit applies only to the program narrative section of the application. A complete description of the requirements for the program narrative section is found in the application package in Section C: Application Forms and Instructions.

Our reviewers will not read any pages of your program narrative that—

• Exceed the page limit if you apply these standards; or

• Exceed the equivalent of the page limit if you apply other standards.

3. Submission Dates and Times: Applications Available: November 9, 2004.

Deadline for Notice of Intent to Apply: December 15, 2004.

Deadline for Transmittal of Applications: January 5, 2005.

Applications for grants under the API program competition must be submitted electronically using the Electronic Grant Application System (e-Application) available through the Department's e-Grants system. For information (including dates and times) about how to submit your application electronically or to request a waiver of the electronic submission requirement, please refer to Section IV. 6. Other Submission Requirements in this notice.

We do not consider an application that does not comply with the application requirements. Deadline for Intergovernmental Review: March 7, 2005.

4. Intergovernmental Review: This competition is subject to Executive Order 12372 and the regulations in 34 CFR part 79. Information about Intergovernmental Review of Federal Programs under Executive Order 12372 is in the application package for this competition.

5. Funding Restrictions: We reference the regulations outlining funding restrictions in the Applicable Regulations section of this notice.

6. Other Submission Requirements: Applications for grants under this competition must be submitted electronically, unless you request a waiver of this requirement in accordance with the instructions in this section.

a. Electronic Submission of Applications. Applications for grants under the API Program-CFDA Number 84.330C must be submitted electronically using e-Application available through the Department's e-Grants system, accessible through the e-Grants portal page at: http://e-grants.ed.gov.

If you are unable to submit an application through the e-Grants system, you may submit a written request for a waiver of the electronic submission requirement. In your request, you should explain the reason or reasons that prevent you from using the Internet to submit your application. Address your request to: Madeline Baggett, U.S. Department of Education, 400 Maryland Avenue, SW., Room 4W210, Washington, DC 20202-5943. Please submit your request no later than two weeks before the application deadline date. Your paper application must be submitted in accordance with the mail or hand delivery instructions described in this notice.

If, within two weeks of the application deadline date, including the application deadline date itself, you are unable to submit an application electronically, you must submit a paper application in accordance with the mail or hand delivery instructions described in this notice. The paper application must include a written request for a waiver documenting the reasons that prevented you from using the Internet to submit your application electronically.

While completing your electronic application, you will be entering data online that will be saved into a database. You may not e-mail an electronic copy of a grant application to us.

Please note the following:

• You must complete the electronic submission of your grant application by 4:30 p.m., Washington, DC time, on the application deadline date. The e-Application system will not accept an application for the API Program competition after 4:30 p.m., Washington, DC time, on the application deadline date. Therefore, we strongly recommend that you do not wait until the application deadline date to begin the application process.

• The regular hours of operation of the e-Grants Web site are 6 a.m. Monday until 7 p.m. Wednesday; and 6 a.m. Thursday until midnight Saturday, Washington, DC time. Please note that the system is unavailable on Sundays, and between 7 p.m. on Wednesdays and 6 a.m. on Thursdays, Washington, DC time, for maintenance. Any modifications to these hours are posted on the e-Grants Web site.

• You will not receive additional point value because you submit your application in electronic format, nor will we penalize you if you request a waiver and submit your application in paper format because you were prevented from submitting it electronically as required.

• You must submit all documents electronically, including the Application for Federal Education Assistance (ED 424), Budget Information—Non-Construction Programs (ED 524), and all necessary assurances and certifications.

• Your electronic application must comply with any page limit requirements described in this notice.

• Prior to submitting your electronic application, you may wish to download it and print a copy of it for your records.

• After you electronically submit your application, you will receive an automatic acknowledgement that will include a PR/Award number (an identifying number unique to your application).

• Within three working days after submitting your electronic application, fax a signed copy of the ED 424 to the Application Control Center after following these steps:

1. Print ED 424 from e-Application.

2. The applicant's Authorizing Representative must sign this form.

3. Place the PR/Award number in the upper right hand corner of the hard-copy signature page of the ED 424.

4. Fax the signed ED 424 to the Application Control Center at (202) 245-6272.

• We may request that you provide us original signatures on other forms at a later date.

Application Deadline Date Extension in Case of System Unavailability: If you are prevented from electronically submitting your application on the application deadline date because the e-Application system is unavailable, we will grant you an extension of one business day in order to transmit your application electronically, by mail, or by hand delivery. We will grant this extension if—

1. You are a registered user of e-Application and you have initiated an electronic application for this competition; and

2. (a) The e-Application system is unavailable for 60 minutes or more between the hours of 8:30 a.m. and 3:30 p.m., Washington, DC time, on the application deadline date; or

(b) The e-Application system is unavailable for any period of time between 3:30 p.m. and 4:30 p.m., Washington, DC time, on the application deadline date.

We must acknowledge and confirm these periods of unavailability before granting you an extension. To request this extension or to confirm our acknowledgement of any system unavailability, you may contact either (1) the person listed elsewhere in this notice under FOR FURTHER INFORMATION CONTACT (see VII. Agency Contact) or (2) the e-Grants help desk at 1-888-336-8930. If the system is down and therefore the application deadline is extended, an e-mail is sent to all registered users who have initiated an application.

Extensions referred to in this section apply only to the unavailability of the Department's e-Application system. If the e-Application system is available, and you are unable to submit your application electronically or you do not receive an automatic acknowledgement of your submission, you may submit your application in paper format by mail or hand delivery in accordance with the instructions in this notice. Your paper application must be accompanied by a written request for waiver of the electronic submission requirement documenting the reasons that prevented you from using the Internet to submit your application electronically.

b. Submission of Paper Applications by Mail. If you submit your application in paper format by mail (through the U.S. Postal Service or a commercial carrier), you must send the original and two copies of your application, on or before the application deadline date, to the Department at the applicable following address:

By mail through the U.S. Postal Service: U.S. Department of Education, Application Control Center, Attention: (CFDA Number 84.330C), 400 Maryland Avenue, SW., Washington, DC 20202-4260; or

By mail through a commercial carrier: U.S. Department of Education, Application Control Center-Stop 4260, Attention: (CFDA Number 84.330C), 7100 Old Landover Road, Landover, MD 20785-1506.

The Application Control Center will mail a Grant Application Receipt Acknowledgment to you. If you do not receive the notification of application receipt within 15 business days from the mailing of your application, you should call the U.S. Department of Education Application Control Center at (202) 245-6288.

You must show proof of mailing consisting of one of the following:

1. A legibly dated U.S. Postal Service postmark;

2. A legible mail receipt with the date of mailing stamped by the U.S. Postal Service;

3. A dated shipping label, invoice, or receipt from a commercial carrier; or

4. Any other proof of mailing acceptable to the U.S. Secretary of Education.

If you mail your application through the U.S. Postal Service, we do not accept either of the following as proof of mailing:

1. A private metered postmark, or

2. A mail receipt that is not dated by the U.S. Postal Service.

If your application is postmarked after the application deadline date, we will not consider your application.

Note: Applicants should note that the U.S. Postal Service does not uniformly provide a dated postmark. Before relying on this method, you should check with your local post office.

c. Submission of Paper Applications by Hand Delivery. If you have requested a waiver of the electronic submission requirement, you (or a courier service) may deliver your paper application to the Department by hand. You must deliver the original and two copies of your application by hand, on or before the application deadline date, to the Department at the following address: U.S. Department of Education, Application Control Center, Attention: CFDA Number 84.330C, 550 12th Street, SW., Room 7041, Potomac Center Plaza, Washington, DC 20202-4260.

The Application Control Center accepts hand deliveries daily between 8 a.m. and 4:30 p.m., Washington, DC time, except Saturdays, Sundays and Federal holidays.

Note for Mail or Hand Delivery of Paper Applications: If you mail or hand deliver your application to the Department:

1. You must indicate on the envelope and—if not provided by the Department—in Item 4 of the ED 424 the CFDA number—and suffix letter, if any—of the competition under which you are submitting your application.

2. The Application Control Center will mail a Grant Application Receipt Acknowledgment to you. If you do not receive the notification of application receipt within 15 business days from the application deadline date, you should call the U.S. Department of Education Application Control Center at (202) 245-6288.

V. Application Review Information

Selection Criteria: The selection criteria for this competition are from 34 CFR 75.210 and section 1705(f) of the ESEA. These selection criteria apply to the absolute priority and allowable activities only. The maximum score for all of the selection criteria is 100 points. The maximum score for each criterion is indicated in parentheses with the criterion. The maximum number of points an application may earn based on the competitive preference priorities and the selection criteria is 116 points. The criteria are as follows:

(a) Significance (20 points). The Secretary considers the significance of the proposed project. In determining the significance of the proposed project, the Secretary considers the following factors:

(1) The likelihood that the proposed project will result in system changes or improvements.

(2) The importance or magnitude of the results or outcomes likely to be attained by the proposed project, especially improvements in teaching and student achievement.

(b) Quality of the Project Design (20 points). The Secretary considers the quality of the design of the proposed project. In determining the quality of the design of the proposed project, the Secretary considers the following factors:

(1) The extent to which the proposed project represents an exceptional approach for meeting the priority or priorities established for this competition.

(2) The extent to which the design of the proposed project is appropriate to, and will successfully address, the needs of the target population or other identified needs.

(c) Quality of Project Services (20 points). The Secretary considers the quality of the services to be provided by the proposed project. In determining the quality of the services to be provided by the proposed project, the Secretary considers the quality and sufficiency of strategies for ensuring equal access and treatment for eligible project participants who are members of groups that have traditionally been under-represented based on race, color, national origin, gender, age, or disability. In addition, the Secretary considers the following factors:

(1) The extent to which the services to be provided by the proposed project reflect up-to-date knowledge from research and effective practice.

(2) The extent to which the training or professional development services to be provided by the proposed project are of sufficient quality, intensity, and duration to lead to improvements in practice among the recipients of those services.

(d) Quality of Project Personnel (10 points). The Secretary considers the quality of the personnel who will carry out the proposed project. In determining the quality of project personnel, the Secretary considers the extent to which the applicant encourages applications for employment from persons who are members of groups that have traditionally been underrepresented based on race, color, national origin, gender, age, or disability. In addition, the Secretary considers the following factors:

(1) The qualifications, including relevant training and experience, of the project director.

(2) The qualifications, including relevant training and experience, of key project personnel.

(e) Quality of the Management Plan (10 points). The Secretary considers the quality of the management plan for the proposed project. In determining the quality of the management plan for the proposed project, the Secretary considers the following factors:

(1) The adequacy of the management plan to achieve the objectives of the proposed project on time and within budget, including clearly defined responsibilities, timelines, and milestones for accomplishing project tasks.

(2) The extent to which the time commitments of the project director and other key project personnel are appropriate and adequate to meet the objectives of the proposed project.

(f) Quality of the Project Evaluation (20 points). The Secretary considers the quality of the evaluation to be conducted of the proposed project. In determining the quality of the evaluation, the Secretary considers the following factors:

(1) The extent to which the methods of evaluation include the use of objective performance measures that are clearly related to the intended outcomes of the project and will produce quantitative and qualitative data to the extent possible.

(2) The extent to which the evaluation meets the reporting requirements of section 1705(f)(1) of the authorizing statute.

Note: A strong evaluation plan should be included in the application narrative and should be used, as appropriate, to shape the development of the project from the beginning of the grant period. The plan should include benchmarks to monitor progress toward specific project objectives and also outcome measures to assess the impact on teaching and learning or other important outcomes for project participants. More specifically, the plan should identify the individual and/or organization that has agreed to serve as evaluator for the project and describe the qualifications of that evaluator. The plan should describe the evaluation design, indicating: (1) What types of data will be collected; (2) when various types of data will be collected; (3) what methods will be used; (4) what instruments will be developed and when; (5) how the data will be analyzed; (6) when reports of results and outcomes will be available; and (7) how the applicant will use the information collected through the evaluation to monitor progress of the funded project and to provide accountability information both about success at the initial site and effective strategies for replication in other settings. Applicants are encouraged to devote an appropriate level of resources to project evaluation.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Grant Administration: Applicants approved for funding under this competition may be required to attend a one- or two-day Grants Administration meeting in Washington, DC during the first year of the grant. The cost of attending this meeting may be paid from API program grant funds or State or local resources.

4. Reporting: At the end of your project period, you must submit a final performance report, including financial information, as directed by the Secretary. If you receive a multi-year award, you must submit an annual performance report that meets the reporting requirements in section 1705(f)(1) of the ESEA and provides the most current performance and financial expenditure information as specified by the Secretary in 34 CFR 75.118.

5. Performance Measures: The Secretary has developed four performance measures for assessing the effectiveness of the two Advanced Placement programs authorized under Title I, Part G of the ESEA. These measures are:

(a) Number of Advanced Placement (AP) tests taken by low-income students nationally;

(b) Number of International Baccalaureate (IB) tests taken by low-income students nationally;

(c) Percentage of low-income students served by the Department's Advanced Placement programs who receive a passing score on AP tests; and

(d) Percentage of low-income students served by the Department's Advanced Placement programs who receive a passing score on IB tests.

VII. Agency Contact

FOR FURTHER INFORMATION CONTACT: Madeline E. Baggett, U.S. Department of Education, 400 Maryland Avenue, SW., Room 4W210, Washington, DC 20202-5943. Telephone number: (202) 260-2502 or by e-mail: madeline.baggett@ed.gov.

If you use a telecommunications device for the deaf (TDD), you may call the Federal Information Relay Service (FIRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Dated: November 3, 2004.
Nina Shokraii Rees,
Assistant Deputy Secretary for Innovation and Improvement.

[FR Doc. 04-24896 Filed 11-8-04; 8:45 am]

BILLING CODE 4000-01-P